DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Healthcare Integrity and Protection Data Bank for Final Adverse Information on Health Care Providers, Suppliers, and Practitioners—(OMB 0915-0239)—EXTENSION

Section 221(a) of the Health Insurance Portability and Accountability Act (HIPAA) of 1996 specifically directs the Secretary to establish a national health care fraud and abuse data collection program for the reporting and disclosure of certain final adverse actions taken against health care providers, suppliers, and practitioners. A final rule was published October 26, 1999 in the Federal Register to implement the statutory requirements of section 1128E of the Social Security Act (The Act) as added by Section 221(a) of HIPAA. The Act requires the Secretary to implement the national health care fraud and abuse data collection program. This data bank is known as the Healthcare Integrity and Protection Data Bank (HIPDB). It contains the following types of information: (1) Civil judgments against a health care provider, supplier, or practitioner in Federal or State court related to the delivery of a health care item or service; (2) Federal or State criminal convictions against a health care provider, supplier, or practitioner related to the delivery of a health care item or service; (3) Actions by Federal or State agencies responsible for the licensing and certification of health care providers, suppliers, or practitioners; (4) Exclusion of a health care provider, supplier, or practitioner from participation in Federal or State health care programs; and (5) Any other adjudicated actions or decisions that the Secretary shall establish by regulations. Access to this data bank is limited to Federal and State Government agencies and health plans.

The Estimated Response Burden Is As Follows

Regulation citation | Number of respond. | Respon. per respond. | Total respon. | Hrs. per respon. | Total burden hours
61.6 Errors & Omissions | 1,200 | 1 | 1,200 | 25 min | 500
61.6 Revisions/appeal status | 1,000 | 1 | 1,000 | 75 min | 1,250
61.7 Licensure actions:
Disclosure by State licensing boards | 1,836 | 22 | 40,400 | 75 min | 50,500
Reporting by State Licensing Authorities | 216 | 187 | 40,400 | 15 min | 10,100
61.8 Reporting of State criminal convictions | 54 | 13 | 700 | 75 min | 875
61.9 Reporting of Civil Judgments | 62 | 8 | 500 | 75 min | 625
61.11 Reporting of adjudicated actions/decisions | 66 | 12 | 800 | 75 min | 1,000
61.12 Access to data (queries/self queries):
State licensure Boards | 1,000 | 75 | 75,000 | 5 min | 6,250
State certification agencies | 54 | 3 | 162 | 5 min. | 14
States/district attorneys & law enforcement | 2,000 | 25 | 50,000 | 5 min | 4,166
State Medicaid fraud units | 47 | 50 | 2,350 | 5 min | 196
Health plans | 2,500 | 400 | 1,000,000 | 5 min | 83,333
Health care providers, suppliers and practitioners (self query) | 60,000 | 1 | 60,000 | 25 min | 25,000
Entity registration | 5,000 | 1 | 5,000 | 30 min | 2,500
Entity registration update | 250 | 1 | 250 | 15 min. | 62
Authorized agent designation | 100 | 1 | 100 | 10 min. | 16
Authorized agent designation update | 5 | 1 | 5 | 5 min | 0.42
61.15 Disputed reports/secretarial review
Initial request | 750 | 1 | 750 | 10 min | 125
Request for secretarial review | 37 | 1 | 37 | 480 min | 296
Total | 76,177 |  | 1,278,654 |  | 186,808

Other Forms Used in the Management of the HIPDB Include the Following:

Form name | Number of respond. | Respon. per respond. | Total respon. | Hrs. per respon. | Total burden hours
Account discrepancy | 2,000 | 1 | 2,000 | 5 min | 166
Electronic funds transfer authorization | 850 | 1 | 850 | 5 min. | 70
Entity reactivation | 500 | 1 | 500 | 15 min | 125
Total | 3,350 |  | 3,350 |  | 361

Written comments and recommendations concerning the proposed information collection should be sent within 30 days of this notice to: Wendy A. Taylor, Human Resources and Housing Branch, Office of Management and Budget, New Executive Office Building, Room 10235, Washington, DC 20503.

Dated: March 29, 2000.
James J. Corrigan,
Associate Administrator for Management and Program Support.

[FR Doc. 00-8479 Filed 4-5-00; 8:45 am]

BILLING CODE 4160-15-U